Title 3—

The President

Proclamation 10122 of November 30, 2020

National Impaired Driving Prevention Month, 2020

By the President of the United States of America

A Proclamation

In the United States, one person tragically dies every 50 minutes in a drunk driving incident. Far too many families experience the pain of losing a loved one to impaired driving, and even more must cope with health and financial consequences that result from this illegal and avoidable conduct. During National Impaired Driving Prevention Month, we remember the lives lost as a result of those driving under the influence of drugs or alcohol, we acknowledge the pain and suffering caused by impaired driving, we honor the brave law enforcement officers who risk their lives to protect our communities from this irresponsible behavior, and we resolve to never get behind the wheel unless we are sober.

Alcohol, drugs, and certain medications can impair judgement, decrease motor coordination, and slow reaction time to the point where operating a motor vehicle is no longer safe. While deaths caused by impaired driving have thankfully fallen by more than 30 percent in the last three decades, too many Americans still make the thoughtless decision to drive impaired, threatening other motorists, cyclists, and pedestrians, killing nearly 30 people every day.

Since my first day in office, my Administration has fought to address this tragedy head on and reduce impaired-driving deaths. We are constantly working with law enforcement officers and public safety professionals to provide them with the resources and support they need to keep our roads safe. To address the root causes of impaired driving, my Administration is also assisting those with substance use disorder through initiatives like www.FindTreatment.gov, a website dedicated to connecting people with the treatment they need, and the Rural Community Toolbox, which provides funding and resources to help build strong, healthy, and drug-free rural communities. Additionally, our Nation's business owners, skilled workers, and innovative entrepreneurs have joined in this fight. The rapid expansion and improvement of existing technologies like ride-sharing and Advanced Vehicle Technologies continue to provide additional safe alternatives to impaired driving.

We must all do our part to stop the tragedies caused by impaired driving. This month, I encourage individuals across America to recommit to working together to reduce the number of crashes, injuries, and fatalities on our Nation's roads. Let us vow to act responsibly, always drive sober, and keep our communities safe.

NOW, THEREFORE, I, DONALD J. TRUMP, President of the United States of America, by virtue of the authority vested in me by the Constitution and the laws of the United States, do hereby proclaim December 2020 as National Impaired Driving Prevention Month. I urge all Americans to make responsible decisions and take appropriate measures to prevent impaired driving.

IN WITNESS WHEREOF, I have hereunto set my hand this thirtieth day of November, in the year of our Lord two thousand twenty, and of the Independence of the United States of America the two hundred and forty-fifth.

[FR Doc. 2020-26792

Filed 12-2-20; 11:15 am]

Billing code 3295-F1-P